OFFICE OF THE UNITED STATES TRADE REPRESENTATIVE

Trade Policy Staff Committee; Extension of Deadline for the Submission of Written Comments on What Action, if Any, the President Should Take Under Section 203 of the Trade Act of 1974 With Regard to Imports of Certain Steel and Responses to Such Comments

AGENCY: Office of the United States Trade Representative.

ACTION: Extension of deadline for submission of comments and responses.

SUMMARY: The Trade Policy Staff Committee (“TPSC”) is extending the deadline for the submission of written comments on what action, if any, the President should take under section 203 of the Trade Act of 1974 (19 U.S.C. 2253) (“Trade Act”) with regard to imports of certain steel and responses to such written comments, which were requested in a Federal Register notice of October 26, 2001. See 66 FR 54321 (“Notice”).

DATES: The deadline for written comments on what action, if any, the President should take under section 203 of the Trade Act is being extended to January 4, 2002, and the deadline for responses to such written comments is being extended to January 15, 2002.

FOR FURTHER INFORMATION CONTACT: Office of Industry, Office of the United States Trade Representative, 600 17th Street, NW., Room 501, Washington, DC 20508. Telephone (202) 395-5656.

SUPPLEMENTARY INFORMATION: On October 26, 2001, the TPSC published in the Federal Register a request for written public comments on what action the President should take under section 203 of the Trade Act to facilitate efforts by the domestic industries producing certain steel products to make a positive adjustment to import competition and provide greater economic and social benefits than costs. See 66 FR 54321 (“Notice”). According to the Notice, the deadline for the submission of written comments on what action, if any, the President should take under section 203 of the Trade Act is December 28, 2001, and the deadline for responses to such written comments is January 8, 2002. The TPSC is extending the deadline for written comments until not later than January 4, 2002, and the deadline for responses to written comments until not later than January 15, 2002. Parties should refer to the Notice, as modified by the TPSC's Federal Register notice of November 29, 2001 (66 FR 59599), for instructions for the submission of written comments.

Donald Eiss,
Acting Chair, Trade Policy Staff Committee.

[FR Doc. 01-32002 Filed 12-27-01; 8:45 am]

BILLING CODE 3190-01-P